DEPARTMENT OF COMMERCE

National Oceanic and Atmospheric Administration

[I.D. 011806A]

Fisheries of the Exclusive Economic Zone off Alaska; Application for an Exempted Fishing Permit

AGENCY: National Marine Fisheries Service (NMFS), National Oceanic and Atmospheric Administration (NOAA), Commerce.

ACTION: Notice of receipt of an application for an exempted fishing permit.

SUMMARY: This notice announces receipt of an application for an exempted fishing permit (EFP) from the Aleut Enterprise Corporation (AEC). If granted, this permit would be used to support a project to investigate the feasibility of using commercial fishing vessels for acoustic surveys of pollock in the Aleutian Islands subarea. The project is intended to promote the objectives of the Fishery Management Plan (FMP) for Groundfish of the Bering Sea and Aleutian Islands Management Area (BSAI) by improving use of pollock in the Aleutian Islands subarea.

ADDRESSES: Copies of the EFP application and the environmental assessment (EA) are available by writing to Sue Salveson, Assistant Regional Administrator for Sustainable Fisheries, Alaska Region, NMFS, P. O. Box 21668, Juneau, AK 99802, Attn: Lori Durall. The EA also is available from the Alaska Region, NMFS website at http://www.fakr.noaa.gov/index/analyses/analyses.asp.

FOR FURTHER INFORMATION CONTACT: Melanie Brown, 907-586-7228 or melanie.brown@noaa.gov.

SUPPLEMENTARY INFORMATION: NMFS manages the domestic groundfish fisheries in the BSAI under the FMP. The North Pacific Fishery Management Council (Council) prepared the FMP under the Magnuson-Stevens Fishery Conservation and Management Act. Regulations governing the groundfish fisheries of the BSAI appear at 50 CFR parts 600 and 679. The FMP and the implementing regulations at §§ 679.6 and 600.745(b) authorize issuance of EFPs to allow fishing that would otherwise be prohibited. Procedures for issuing EFPs are contained in the implementing regulations.

NMFS received an application for an EFP from the AEC. The purpose of the EFP is to support a project to determine the feasibility of using commercial fishing vessels for acoustic surveys of pollock in the Aleutian Islands subarea. The goal of the project is to improve the use of Aleutian Islands pollock. NMFS currently does not have resources to conduct acoustic surveys of Aleutian Islands pollock. This project has been developed in cooperation with stock assessment scientists at the NMFS Alaska Fisheries Science Center. The acoustic and biological information from the project will be used to determine: (1) if it is feasible to conduct acoustic surveys in the Aleutian Islands subarea using commercial fishing vessels, (2) if the data collected in such a manner are of sufficient quality for management purposes, and (3) if the local aggregations of pollock are stable enough during spawning season to allow for fine scale spatial and temporal management. Additionally, genetic samples will be collected during this study that will be used for stock structure analysis. Improved information may lead to improved conservation and potentially finer spatial and temporal harvest management of Aleutian Islands pollock. More information on the Aleutian Islands pollock stock is needed because of the uncertainty of the stock's structure and the potential effects of the fishery on Steller sea lions.

The western distinct population segment (DPS) of Steller sea lions occurs in the Aleutian Islands subarea and is listed as endangered under the Endangered Species Act (ESA). Critical habitat has been designated for this DPS, including waters within 20 nautical miles (nm) of haulouts and rookeries (50 CFR 226.202). Pollock is a principal prey species of Steller sea lions.

The U.S. Congress, in section 803 of the Consolidated Appropriations Act of 2004 (Public Law 108-199), required that the directed fishing allowance of pollock in the Aleutian Islands subarea be allocated to the Aleut Corporation. Only fishing vessels approved by the Aleut Corporation or its agents are allowed to harvest this allowance. To harvest the fish, the Aleut Corporation is allowed to contract only with vessels under 60 feet (18.3 m) length overall (LOA), or vessels listed under the American Fisheries Act. The allocation was made to the Aleut Corporation for the purpose of furthering the economic development of Adak, Alaska. Public Law 108-199 requires half of the Aleutian Islands pollock allocation to be harvested by small boats (less than 60 feet (18.3 m) LOA) in 2013 and beyond. For safety reasons, fishing in waters closer than 20 nm from shore is preferred for the small boat fleet.

Aleutian Islands pollock has been harvested primarily in Steller sea lion critical habitat in the past until the Aleutian Islands subarea was closed to pollock fishing in 1999 (64 FR 3437, January 22, 1999). In 2003, the Aleutian Islands subarea was opened to pollock fishing outside of critical habitat under regulations implementing the current Steller sea lion protection measures (68 FR 204, January 2, 2003). In 2005, pollock was allocated to the Aleut Corporation for a directed pollock fishery in the Aleutian Islands subarea outside of Steller sea lion critical habitat. The Aleut Corporation harvested only about 1.2 percent of its initial 2005 pollock allocation due, in part, to difficulty in finding pollock. Based on historical harvests, pollock aggregations necessary to support an acoustic survey likely occur inside Steller sea lion critical habitat.

The EFP is necessary to allow the applicants to harvest groundfish to verify the acoustic data collected and to compensate the participants. The acoustic survey must be conducted in an area that is likely to contain concentrations of pollock. The EFP would provide exemptions to Steller sea lion closures to pollock fishing in two areas: Atka Island and Kanaga Sound. Two areas are provided for the project in the event that no aggregations of fish can be found in one of the areas. Only one area may be used for the acoustic survey and verification fishing. No more than 1000 metric tons (mt) of groundfish may be harvested from a single site in this project. Fishing may occur within 3 nm of Steller sea lion haulouts in the study area to verify acoustic survey data. No more than 10 mt of groundfish may be harvested in a tow within 3 nm of a haulout.

All groundfish harvested will be counted towards the TAC amounts specified for the BSAI in § 679.20 and the 2006 harvest specifications (70 FR 8679, February 24, 2005) which are scheduled for revision by the end of February 2006. Nearly all groundfish harvested under the EFP is expected to be pollock with minor amounts of Pacific ocean perch. Any groundfish fishing in the Aleutian Islands subarea closed to directed fishing due to overfishing concerns would include the directed fishing under the EFP.

Overall, no more than 1,000 mt of groundfish would be harvested under the EFP by one vessel. The EFP applicant would retain all groundfish species to accurately document the catch amounts by species and compare this information to the acoustic data. The EFP would provide an exemption from maximum retainable amounts specified in Table 11 of 50 CFR part 679 so that the applicant may retain and sell all groundfish harvested.

The EFP may be modified to extend the effective date for an additional 12 months if the applicant is unable to complete the project in 2006. Fishing under the EFP is expected to occur during March 2006 for approximately three weeks. Because the activities are limited to one vessel for approximately three weeks in a discrete area with a 1,000 mt limit, significant impacts on the marine environment are not expected. Because the activity is in Steller sea lion critical habitat and includes the harvest of a principal prey species for Steller sea lions, a Section 7 consultation under the ESA has been initiated for this action and must be completed before the issuance of the EFP.

In accordance with § 679.6, NMFS has determined that the proposal warrants further consideration and has initiated consultation with the Council by forwarding the application to the Council. The Council will consider the EFP application during its February 6-13, 2006 meeting. The applicant has been invited to appear in support of the application, if the applicant desires. Interested persons may comment on the application at the Council meeting during public testimony. Information regarding the February 2006 Council meeting is available at the Council's website at http://www.fakr.noaa.gov/npfmc/default.htm.

Copies of the application and EA are available for review from NMFS (see ADDRESSES).

Authority: 16 U.S.C. 1801 et seq.

Dated: January 18, 2006.
Alan D. Risenhoover,
Acting Director, Office of Sustainable Fisheries, National Marine Fisheries Service.

[FR Doc. E6-733 Filed 1-20-06; 8:45 am]

BILLING CODE 3510-22-S